DEPARTMENT OF AGRICULTURE

Agricultural Marketing Service

7 CFR Part 1219

[FV-01-705 PR#2 Correction]

Proposed Hass Avocado Promotion, Research and Information Order; Correction

AGENCY: Agricultural Marketing Service, Agriculture.

ACTION: Proposed rule; correction.

SUMMARY: This document corrects a proposed rule that was published on February 19, 2002 [67 FR 7290] by publishing the correct Harmonized Tariff Schedule number for Hass avocados used to identify those avocados which are subject to import assessments.

EFFECTIVE DATE: March 25, 2002.

FOR FURTHER INFORMATION CONTACT: Julie A. Morin, Research and Promotion Branch, FV, AMS, USDA, Stop 0244, 1400 Independence Avenue, SW., Room 2535 South Building, Washington, DC 20250-0244; telephone (202) 720-9915; facsimile (202) 205-2800; or julie.morin@usda.gov.

SUPPLEMENTARY INFORMATION:

Background

The Department of Agriculture (Department) published a proposed rule on the Hass Avocado Promotion, Research, and Information Order [7 CFR Part 1219] in the Federal Register on February 19, 2002 [67 FR 7290]. The proposed Order is authorized under the Hass Avocado Promotion, Research, and Information Act of 2000 [7 U.S.C. 7801-7813].

Need for Correction

As published, there was a typographical error in the proposed rule. In § 1219.54(c)(2) import assessments, the Harmonized Tariff Schedule number identifying Hass avocados is incorrect. Accordingly, this correction document contains the correct Hass avocado Harmonized Tariff Schedule number.

Correction

FR Doc. 02-3797, published on February 19, 2002 [67 FR 7290], is corrected as follows:

§ 1219.54 [Corrected]

1. On page 7307, in the first column, in the Assessment—Import Assessments, section number § 1219.54(c)(2) is correctly revised to read as follows:

(2) The import assessment shall be uniformly applied to imported fresh Hass avocados that are identified by the number 0804.40.00.10 in the Harmonized Tariff Schedule of the United States or any other numbers to identify fresh Hass avocados. Assessments on other types of imported fresh avocados or on processed Hass avocados, such as prepared, preserved, or frozen Hass avocados or Hass avocado paste, puree, and oil will be added at the recommendation of the Board with the approval of the Secretary.

Dated: March 19, 2002.
A.J. Yates,
Administrator, Agricultural Marketing Service.

[FR Doc. 02-7106 Filed 3-22-02; 8:45 am]

BILLING CODE 3410-02-P